DEPARTMENT OF HOMELAND SECURITY

Federal Emergency Management Agency

[Docket ID FEMA-2013-0002; Internal Agency Docket No. FEMA-B-1301]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 3, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1301, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-Based Studies

Community | Community map repository address
East Central Louisiana Coastal Watershed and Eastern Louisiana Coastal Watershed
Jefferson Parish, Louisiana, and Incorporated Areas
Maps Available for Inspection Online at: http://www.riskmap6.com/Community.aspx?cid=101&sid=2
City of Gretna | City Hall, 2nd Street and Huey P. Long Avenue, Gretna, LA 70054.
City of Harahan | City Hall, 6437 Jefferson Highway, Harahan, LA 70123.
City of Kenner | City Hall, 1801 Williams Boulevard, Kenner, LA 70062.
City of Westwego. | City Hall, 419 Avenue A, Westwego, LA 70094.
Town of Grand Isle | Town Hall, 170 Ludwig Lane, Grand Isle, LA 70358.
Town of Jean Lafitte | Jean Lafitte Town Government Building, 2654 Jean Lafitte Boulevard, Lafitte, LA 70067.
Unincorporated Areas of Jefferson Parish | Jefferson Parish Building, 1221 Elmwood Park Boulevard, Harahan, LA 70123.
New Orleans/Orleans Parish, Louisiana
Maps Available for Inspection Online at: http://riskmap6.com/Community.aspx?cid=111&sid=2
New Orleans/Orleans Parish | Orleans Parish Civil District Courthouse, 421 Loyola Avenue, Suite 402, New Orleans, LA 70112.
Plaquemines Parish, Louisiana, and Incorporated Areas
Maps Available for Inspection Online at: http://riskmap6.com/Community.aspx?cid=113&sid=2
Unincorporated Areas of Plaquemines Parish | Plaquemines Parish Government Building, 8056 Highway 23, Belle Chasse, LA 70037.
St. Bernard Parish, Louisiana, and Incorporated Areas
Maps Available for Inspection Online at: http://riskmap6.com/Community.aspx?cid=119&sid=2
Unincorporated Areas of St. Bernard Parish | St. Bernard Parish Community Development Office, 8201 West Judge Perez Drive, Chalmette, LA 70043.
St. Charles Parish, Louisiana, and Incorporated Areas
Maps Available for Inspection Online at: http://www.riskmap6.com/Community.aspx?cid=120&sid=2
Unincorporated Areas of St. Charles Parish | St. Charles Parish Planning and Zoning Department, 14996 River Road, Hahnville, LA 70057.

II. Non-Watershed-Based Studies

Community | Community Map Repository Address
Kent County, Delaware, and Incorporated Areas
Maps Available for Inspection Online at: www.rampp-team.com/de.htm
City of Dover | City Hall, Planning Department and Inspection, 15 Loockerman Plaza, Dover, DE 19901.
City of Harrington | City Hall, 106 Dorman, Harrington, DE 19952.
Town of Bowers | Bowers Town Hall, 3308 Main Street, Frederica, DE 19946.
Town of Camden | Town Hall, 1783 Friends Way, Camden, DE 19934.
Town of Felton | Town Hall, 24 East Sewell Street, Felton, DE 19943.
Town of Frederica | Town Hall, 2 East David Street, Frederica, DE 19946.
Town of Leipsic | Town Hall, 207 Main Street, Leipsic, DE 19901.
Town of Little Creek | Little Creek Fire Hall, 311 Main Street, Little Creek, DE 19961.
Town of Smyrna | Town Hall, 27 South Market Street, Smyrna, DE 19977.
Town of Wyoming | Municipal Building, 1 North Railroad Avenue, Wyoming, DE 19934.
Unincorporated Areas of Kent County | Kent County Administrative Complex, Department of Planning Services, 555 Bay Road, Dover, DE 19901.

(Catalog of Federal Domestic Assistance No. 97.022, “Flood Insurance.”)

Roy E. Wright,
Deputy Associate Administrator for Mitigation, Department of Homeland Security, Federal Emergency Management Agency.

[FR Doc. 2013-07817 Filed 4-3-13; 8:45 am]

BILLING CODE 9110-12-P